DEPARTMENT OF ENERGY

Federal Energy Regulatory Commission

Combined Notice of Filings #1

Take notice that the Commission received the following electric corporate filings:

Docket Numbers: EC13-139-000.

Applicants: Basin Creek Equity Partners L.L.C., Capitol District Energy Center Cogeneration, Forked River Power LLC, Pawtucket Power Associates Limited Partnership, Pittsfield Generating Company, L.P.

Description: Joint Application for Authorization for Disposition of Jurisdictional Facilities Pursuant to Section 203 of the FPA of Basin Creek Equity Partners, LLC, et al.

Filed Date: 8/26/13.

Accession Number: 20130826-5273.

Comments Due: 5 p.m. ET 9/16/13.

Take notice that the Commission received the following electric rate filings:

Docket Numbers: ER13-2238-000.

Applicants: BE Ironwood LLC.

Description: Tariff Cancellation to be effective 10/25/2013.

Filed Date: 8/26/13.

Accession Number: 20130826-5184.

Comments Due: 5 p.m. ET 9/16/13.

Docket Numbers: ER13-2239-000.

Applicants: Southwest Power Pool, Inc.

Description: 1883R2 Westar Energy, Inc. NITSA and NOA to be effective 8/1/2013.

Filed Date: 8/26/13.

Accession Number: 20130826-5177.

Comments Due: 5 p.m. ET 9/16/13.

Docket Numbers: ER13-2240-000.

Applicants: Southwest Power Pool, Inc.

Description: 1884R2 Westar Energy, Inc. NITSA and NOA to be effective 8/1/2013.

Filed Date: 8/26/13.

Accession Number: 20130826-5180.

Comments Due: 5 p.m. ET 9/16/13.

Docket Numbers: ER13-2241-000.

Applicants: Central Power & Lime LLC.

Description: Tariff cancellation to be effective 10/25/2013.

Filed Date: 8/26/13.

Accession Number: 20130826-5185.

Comments Due: 5 p.m. ET 9/16/13.

Docket Numbers: ER13-2242-000.

Applicants: BE Louisiana LLC.

Description: Tariff cancellation to be effective 10/25/2013.

Filed Date: 8/26/13.

Accession Number: 20130826-5194.

Comments Due: 5 p.m. ET 9/16/13.

Docket Numbers: ER13-2243-000.

Applicants: BE Rayle LLC.

Description: Tariff cancellation to be effective 10/25/2013.

Filed Date: 8/26/13.

Accession Number: 20130826-5202.

Comments Due: 5 p.m. ET 9/16/13.

Docket Numbers: ER13-2244-000.

Applicants: Cedar Brakes II, L.L.C.

Description: Tariff Cancellation to be effective 10/25/2013.

Filed Date: 8/26/13.

Accession Number: 20130826-5207.

Comments Due: 5 p.m. ET 9/16/13.

Docket Numbers: ER13-2245-000.

Applicants: Southern California Edison Company.

Description: GIA and Distribution Service Agmt with Rhodia Inc to be effective 10/26/2013.

Filed Date: 8/26/13.

Accession Number: 20130826-5217.

Comments Due: 5 p.m. ET 9/16/13.

Docket Numbers: ER13-2246-000.

Applicants: BE Allegheny LLC.

Description: Tariff cancellation to be effective 10/25/2013.

Filed Date: 8/26/13.

Accession Number: 20130826-5218.

Comments Due: 5 p.m. ET 9/16/13.

Docket Numbers: ER13-2247-000.

Applicants: NorthWestern Corporation.

Description: SA 689 and 690—Second Amended GIAs with PPL Montana to be effective 8/23/2013.

Filed Date: 8/26/13.

Accession Number: 20130826-5220.

Comments Due: 5 p.m. ET 9/16/13.

Docket Numbers: ER13-2248-000.

Applicants: Southwest Power Pool, Inc.

Description: 1885R2 Westar Energy, Inc. NITSA and NOA to be effective 8/1/2013.

Filed Date: 8/26/13.

Accession Number: 20130826-5221.

Comments Due: 5 p.m. ET 9/16/13.

Docket Numbers: ER13-2249-000.

Applicants: Southwest Power Pool, Inc.

Description: 1887R2 Westar Energy, Inc. NITSA and NOA to be effective 8/1/2013.

Filed Date: 8/26/13.

Accession Number: 20130826-5243.

Comments Due: 5 p.m. ET 9/16/13.

Take notice that the Commission received the following electric reliability filings:

Docket Numbers: RR13-10-000.

Applicants: North American Electric Reliability Corporation.

Description: North American Electric Reliability Corporation Petition for Approval of the Further Amendments to the Amended and Restated Delegation Agreement with Western Electricity Coordinating Council.

Filed Date: 8/26/13.

Accession Number: 20130826-5266.

Comments Due: 5 p.m. ET 9/16/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 27, 2013.
Nathaniel J. Davis, Sr.,
Deputy Secretary.

[FR Doc. 2013-21414 Filed 9-3-13; 8:45 am]

BILLING CODE 6717-01-P